DEPARTMENT OF DEFENSE

GENERAL SERVICES ADMINISTRATION

NATIONAL AERONAUTICS AND SPACE ADMINISTRATION

48 CFR Parts 4, 8, 9, 18, 44, and 52

[FAC 2005-27; FAR Case 2007-015; Item III; Docket 2008-0001; Sequence 16]

RIN 9000-AK96

Federal Acquisition Regulation; FAR Case 2007-015, Administrative Changes to the FPI Blanket Waiver and the JWOD Program Name

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to increase the blanket waiver threshold for small dollar-value purchases from Federal Prison Industries (FPI) by Federal agencies and to change the name of the JWOD Program to the AbilityOne Program.

DATES: Effective Date: October 17, 2008.

FOR FURTHER INFORMATION CONTACT Mr. William Clark, Procurement Analyst, at (202) 219-1813 for clarification of content. For information pertaining to status or publication schedules, contact the FAR Secretariat at (202) 501-4755. Please cite FAC 2005-27, FAR case 2007-015.

SUPPLEMENTARY INFORMATION:

A. Background

The FPI Board of Directors recently revised its 2003 resolution to increase the blanket waiver threshold for small dollar-value purchases from FPI by Federal agencies. A revision to an earlier resolution adopted by the FPI Board provides that the increased dollar threshold necessary to obtain FPI clearance would become effective upon the publication of appropriate modification to the FAR.

This final rule amends the FAR to reflect the threshold increase from $2,500 to $3,000. No waiver is required to buy from an alternative source below $3,000. Customers may, however, still purchase from FPI at, or below, this threshold, if they so choose.

The Committee for Purchase From People Who Are Blind or Severely Disabled, which administers the Javits-Wagner-O'Day Act, has changed its program name to the AbilityOne Program (formerly JWOD Program). The Committee changed the program's name to the AbilityOne Program through the Federal Register on November 27, 2006 (71 FR 68492). This final rule will update the name of the program for all occurrences in the FAR.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. The final rule does not constitute a significant FAR revision within the meaning of FAR 1.501 and Pub. L. 99-577, and publication for public comments is not required. However, the Councils will consider comments from small entities concerning the affected FAR parts 4, 8, 9, 18, 44 and 52 in accordance with 5 U.S.C. 610. Interested parties must submit such comments separately and should cite 5 U.S.C. 601, et seq. (FAC 2005-27, FAR Case 2007-015), in correspondence.

C. Paperwork Reduction Act

The Paperwork Reduction Act does not apply because the changes to the FAR do not impose information collection requirements that require the approval of the Office of Management and Budget under 44 U.S.C. 3501, et seq.

List of Subjects in 48 CFR Parts 4, 8, 9, 18, 44, and 52

Government procurement.

Dated: September 9, 2008.
Al Matera,
Director, Office of Acquisition Policy.

Therefore, DoD, GSA, and NASA amend 48 CFR parts 4, 8, 9, 18, 44, and 52 as set forth below:

1. The authority citation for 48 CFR parts 4, 8, 9, 18, 44, and 52 continues to read as follows:

Authority: 40 U.S.C. 121(c); 10 U.S.C. chapter 137; and 42 U.S.C. 2473(c).

PART 4—ADMINISTRATIVE MATTERS

4.602 [Amended]

2. Amend section 4.602 paragraph (a)(2) by removing “and nonprofit agencies” and adding “and AbilityOne nonprofit agencies” in its place.

4.606 [Amended]

3. Amend section 4.606 paragraph (c)(3) by removing “JWOD” and adding “AbilityOne” in its place.

PART 8—REQUIRED SOURCES OF SUPPLIES AND SERVICES

4. Amend section 8.602 by revising the introductory text of paragraph (c) and paragraph (c)(1) to read as follows.

8.602 Policy.

(c) In some cases where FPI and an AbilityOne participating nonprofit agency produce identical items (see 8.603), FPI grants a waiver to permit the Government to purchase a portion of its requirement from the AbilityOne participating nonprofit agency. When this occurs, the portion of the requirement for which FPI has granted a waiver—

(1) Shall be purchased from the AbilityOne participating nonprofit agency using the procedures in Subpart 8.7; and

5. Amend section 8.603 by revising the introductory paragraph; and removing from paragraphs (a)(2) and (b)(1) “JWOD” and adding “AbilityOne” in its place.

8.603 Purchase priorities.

FPI and nonprofit agencies participating in the AbilityOne Program under the Javits-Wagner-O'Day Act (see Subpart 8.7) may produce identical supplies or services. When this occurs, ordering offices shall purchase supplies and services in the following priorities:

8.605 [Amended]

6. Amend section 8.605 by removing from paragraph (e) “$2,500” and adding “$3,000” in its place.

7. Revise section 8.700 to read as follows:

8.700 Scope of subpart.

This subpart prescribes the policies and procedures for implementing the Javits-Wagner-O'Day Act (41 U.S.C. 46-48c) and the rules of the Committee for Purchase from People Who Are Blind or Severely Disabled (41 CFR Chapter 51) which implements the AbilityOne Program.

8.701 [Amended]

8. Amend section 8.701 by removing “JWOD” wherever it occurs and adding “AbilityOne” in its place.

8.702 [Amended]

9. Amend section 8.702 by removing from paragraph (a) “JWOD” and adding “AbilityOne” in its place; and removing from paragraph (c) “the JWOD” and adding “the Javits-Wagner-O'Day” in its place.

8.703 [Amended]

10. Amend section 8.703 by removing “JWOD” and adding “AbilityOne” in its place; removing “http://www.jwod.gov/procurementlist” and adding “http://www.abilityone.gov/jwod/PL.html” in its place; and removing “info@jwod.gov” and adding “info@abilityone.gov” in its place.

8.704 [Amended]

11. Amend section 8.704 by removing from the introductory text of paragraph (a) “The JWOD” and adding “The Javits-Wagner-O'Day” in its place, and removing “from JWOD” and adding “from AbilityOne” in its place; and removing from paragraphs (a)(1)(ii), (a)(2)(i), and (c) “JWOD” and adding “AbilityOne” in its place.

8.705-1 [Amended]

12. Amend section 8.705-1 by removing “JWOD” wherever it occurs and adding “AbilityOne” in its place.

8.705-2 [Amended]

13. Amend section 8.705-2 by removing “a JWOD” and adding “an AbilityOne” in its place.

8.705-3 [Amended]

14. Amend section 8.705-3 by removing from paragraphs (a) and (c) “JWOD” and adding “AbilityOne” in its place.

8.705-4 [Amended]

15. Amend section 8.705-4 by removing from paragraphs (a) and (b) “JWOD” and adding “AbilityOne” in its place; and removing from paragraph (c) “a JWOD” and adding “an AbilityOne” in its place.

8.706, 8.707, 8.708, 8.710, 8.711, and 8.712 [Amended]

16. Amend sections 8.706, 8.707, 8.708, 8.710, 8.711, and 8.712 by removing “JWOD” wherever it occurs and adding “AbilityOne” in its place.

8.713 [Amended]

17. Amend section 8.713 by removing from paragraph (a) “a JWOD” and adding “an AbilityOne” in its place; and removing from paragraph (b) “JWOD” and adding “AbilityOne” in its place.

8.715 [Amended]

18. Amend section 8.715 by removing “JWOD” wherever it occurs and adding “AbilityOne” in its place.

8.716 [Amended]

19. Amend section 8.716 by removing from the introductory paragraph “a JWOD” and adding “an AbilityOne” in its place.

PART 9—CONTRACTOR QUALIFICATIONS

20. Amend section 9.107 by revising the section heading and paragraph (a); and removing from paragraphs (b) and (d) “JWOD” and adding “AbilityOne” in its place. The revised text reads as follows:

9.107 Surveys of nonprofit agencies participating in the AbilityOne Program under the Javits-Wagner-O'Day Act.

(a) The Committee for Purchase From People Who Are Blind or Severely Disabled (Committee), as authorized by 41 U.S.C. 46-48c, determines what supplies and services Federal agencies are required to purchase from AbilityOne participating nonprofit agencies serving people who are blind or have other severe disabilities (see Subpart 8.7). The Committee is required to find an AbilityOne participating nonprofit agency capable of furnishing the supplies or services before the nonprofit agency can be designated as a mandatory source under the AbilityOne Program. The Committee may request a contracting office to assist in assessing the capabilities of a nonprofit agency.

PART 18—EMERGENCY ACQUISITIONS

21. Revise section 18.107 to read as follows:

18.107 AbilityOne specification changes.

Contracting officers are not held to the notification required when changes in AbilityOne specifications or descriptions are required to meet emergency needs. (See 8.712(d).)

PART 44—SUBCONTRACTING POLICIES AND PROCEDURES

44.202-2 [Amended]

22. Amend section 44.202-2 by removing from paragraph (a)(4)(ii) “(JWOD)”.

PART 52—SOLICITATION PROVISIONS AND CONTRACT CLAUSES

23. Amend section 52.208-9 by—

a. Revising the date of the clause;

b. Removing from paragraph (a) “(JWOD)”;

c. Removing from paragraph (b) “a JWOD” and adding “an AbilityOne” in its place; and

d. Removing from paragraph (c) “JWOD” and adding “AbilityOne” in its place.

The revised text reads as follows:

52.208-9 Contractor Use of Mandatory Sources of Supply or Services.

CONTRACTOR USE OF MANDATORY SOURCES OF SUPPLY OR SERVICES (OCT 2008)

[FR Doc. E8-21386 Filed 9-16-08; 8:45 am]

BILLING CODE 6820-EP-S